DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Ohio Central Railroad

[Waiver Petition Docket Number FRA-2000-7351]

The Ohio Central Railroad owns and operates a caboose, number OHCR 556, which was built in 1976. This caboose is not used in regular service, but only on a limited basis in work train service. The car operates on the Ohio Central Railroad, which is a Class III railroad, operating a single track, unsignaled, line between South Zanesville and New Lexington, Ohio, a distance of 25 miles, with a branch to Glass Rock, Ohio, a distance of approximately 8 miles. The railroad operates in mainly a rural area, with South Zanesville being the largest population center. The petitioner reported that there were no records of vandalism or stoning of moving trains since they began operation in 1986. The OHCR requests relief from the requirements of Title 49 Code of Federal Regulations (CFR) 223.13 Requirements for existing cabooses due to the infrequent use of the caboose, the planned usage for work train service, and the cost of installing compliant glazing.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-7351) and must be submitted to the Docket Clerk, DOT Central Docket Management Facility, Room P1-401 (Plaza Level), 400 Seventh Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on January 2, 2002.
Grady C. Cothen, Jr.,
Deputy Associate Administrator for Safety Standards and Program Development.

[FR Doc. 02-309 Filed 1-4-02; 8:45 am]

BILLING CODE 4910-06-P